DEPARTMENT OF HEALTH AND HUMAN SERVICES

National Institutes of Health

Center for Scientific Review; Amended Notice of Meeting

Notice is hereby given of a change in the meeting of the Myocardial Ischemia and Metabolism Study Section, October 02, 2013, 08:00 a.m. to October 03, 2013, 05:00 p.m., Hotel Kabuki, 1625 Post Street, San Francisco, CA 94115 which was published in the Federal Register on September 03, 2013, 78 FR 54260.

The meeting will be held at the National Institutes of Health, 6701 Rockledge Drive, Bethesda, MD 20892. The meeting will start on December 17, 2013 at 10:00 a.m. and end on December 19, 2013 at 06:00 p.m. The meeting is closed to the public.

Dated: October 23, 2013.
David Clary,
Program Analyst, Office of Federal Advisory Committee Policy.

[FR Doc. 2013-25499 Filed 10-28-13; 8:45 am]

BILLING CODE 4140-01-P